DEPARTMENT OF ENERGY

Federal Energy Regulatory Commission

Combined Notice of Filings #1

Take notice that the Commission received the following electric corporate filings:

Docket Numbers: EC14-63-000.

Applicants: Macho Springs Solar, LLC, Southern Turner Renewable Energy, LLC.

Description: Joint Application for Expedited Approval under Section 203 of the Federal Power Act and Request for Confidential Treatment and Waivers of Macho Springs Sola, LLC, et. al.

Filed Date: 3/4/14.

Accession Number: 20140304-5201.

Comments Due: 5 p.m. ET 3/25/14.

Take notice that the Commission received the following electric rate filings:

Docket Numbers: ER10-2474-007.

Applicants: Sierra Pacific Power Company.

Description: Order No. 784 Compliance & Amendments to MBR Tariff, Volume No. 7 to be effective 2/3/2014.

Filed Date: 3/4/14.

Accession Number: 20140304-5116.

Comments Due: 5 p.m. ET 3/25/14.

Docket Numbers: ER10-2475-007.

Applicants: Nevada Power Company.

Description: Order No. 784 Compliance & Amendments to MBR Tariff, Volume No. 11 to be effective 2/3/2014.

Filed Date: 3/4/14.

Accession Number: 20140304-5117.

Comments Due: 5 p.m. ET 3/25/14.

Docket Numbers: ER14-1417-000.

Applicants: PJM Interconnection, L.L.C.

Description: Notice of Cancellation of Original Service Agreement No. 3128; Queue No. W3-139 to be effective 4/13/2012.

Filed Date: 3/4/14.

Accession Number: 20140304-5082.

Comments Due: 5 p.m. ET 3/25/14.

Docket Numbers: ER14-1418-000.

Applicants: Southwest Power Pool, Inc.

Description: 2236R3 Golden Spread Electric Cooperative, Inc. NITSA to be effective 2/1/2014.

Filed Date: 3/4/14.

Accession Number: 20140304-5085.

Comments Due: 5 p.m. ET 3/25/14.

Docket Numbers: ER14-1419-000.

Applicants: Consolidated Edison Company of New York, Inc.

Description: WDS Tariff Amendment RY 1 to be effective 3/1/2014.

Filed Date: 3/4/14.

Accession Number: 20140304-5099.

Comments Due: 5 p.m. ET 3/25/14.

Docket Numbers: ER14-1420-000.

Applicants: Sierra Pacific Power Company.

Description: Rate Schedule No. 57 Amendments to Cost-based Rate Tariff to be effective 2/3/2014.

Filed Date: 3/4/14.

Accession Number: 20140304-5118.

Comments Due: 5 p.m. ET 3/25/14.

Docket Numbers: ER14-1421-000.

Applicants: Diamond State Generation Partners, LLC.

Description: Reactive Supply Service Tariff to be effective 5/1/2014.

Filed Date: 3/4/14.

Accession Number: 20140304-5120.

Comments Due: 5 p.m. ET 3/25/14.

Docket Numbers: ER14-1422-000.

Applicants: RockTenn CP, LLC.

Description: Application and Initial Baseline Tariff Filing to be effective 3/4/2014.

Filed Date: 3/4/14.

Accession Number: 20140304-5122.

Comments Due: 5 p.m. ET 3/25/14.

Docket Numbers: ER14-1423-000.

Applicants: Southwest Power Pool, Inc.

Description: 1148R17 American Electric Power NITSA and NOA to be effective 2/1/2014.

Filed Date: 3/4/14.

Accession Number: 20140304-5143.

Comments Due: 5 p.m. ET 3/25/14.

Docket Numbers: ER14-1424-000.

Applicants: California Independent System Operator Corporation.

Description: 2014-03-04_AltaWindCertificatesOfConcurrence to be effective 4/9/2014.

Filed Date: 3/4/14.

Accession Number: 20140304-5180.

Comments Due: 5 p.m. ET 3/25/14.

Docket Numbers: ER14-1425-000.

Applicants: Cheyenne Light, Fuel and Power Company.

Description: Transmission Rates Filing to be effective 5/3/2014.

Filed Date: 3/4/14.

Accession Number: 20140304-5181.

Comments Due: 5 p.m. ET 3/25/14.

Docket Numbers: ER14-1426-000.

Applicants: Otter Tail Power Company.

Description: Submission of Revised Transmission Capacity Exchange Agreement to be effective 5/3/2014.

Filed Date: 3/4/14.

Accession Number: 20140304-5183.

Comments Due: 5 p.m. ET 3/25/14.

Docket Numbers: ER14-1427-000.

Applicants: American Electric Power Service Corporation, Public Service Company of Oklahoma, Southwestern Electric Power Company, AEP Oklahoma Transmission Company, Inc., AEP Southwestern Transmission Company, Inc.

Description: Section 205 filing to update depreciation rates of American Electric Power Service Corporation on behalf of affiliates.

Filed Date: 3/4/14.

Accession Number: 20140304-5199.

Comments Due: 5 p.m. ET 3/25/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 5, 2014.
Nathaniel J. Davis, Sr.,
Deputy Secretary.

[FR Doc. 2014-05517 Filed 3-12-14; 8:45 am]

BILLING CODE 6717-01-P